DEPARTMENT OF COMMERCE

International Trade Administration

[A-570-890]

Wooden Bedroom Furniture from the People's Republic of China: Notice of Correction to the Second Amended Final Results of Antidumping Duty Administrative Review

AGENCY: Import Administration, International Trade Administration, Department of Commerce.

FOR FURTHER INFORMATION CONTACT: Gene Degnan, AD/CVD Operations, Office 8, Import Administration, International Trade Administration, U.S. Department of Commerce, 14th Street and Constitution Avenue, NW, Washington, DC 20230; telephone: (202) 482-0414.

SUPPLEMENTARY INFORMATION:

Correction

On November 7, 2007, the Department of Commerce (“Department”) published in the Federal Register the second amended final results of the first administrative review of the antidumping duty order on wooden bedroom furniture from the People's Republic of China (“PRC”). See Second Amended Final Results of Antidumping Duty Administrative Review: Wooden Bedroom Furniture From the People's Republic of China, 72 FR 62834 (November 7, 2007) (“Second Amended Final Results”). The period of review covered June 24, 2004, through December 31, 2005. The Department received no allegations of ministerial errors in the Second Amended Final Results. However, we have noted two inadvertent omissions from the list of entities receiving revised weighted-average margins at 72 FR 62836-37. First, Meikangchi Nantong Furniture Company Ltd. was inadvertently omitted from the list entirely. Second, parts of the name of the respondent King Kei Furniture Factory, King Kei Trading Co., Ltd. and Jiu Ching Trading Co., Ltd. were inadvertently omitted from the list. Accordingly, the Department is correcting these omissions in the list of entities receiving revised weighted-average margins by (1) adding Meikangchi Nantong Furniture Company Ltd., and (2) correcting the name of King Kei Furniture Factory, King Kei Trading Co., Ltd. and Jiu Ching Trading Co., Ltd.:

Wooden Bedroom Furniture from the PRC
Exporter | Weighted-Average Margin (Percent)
King Kei Furniture Factory, King Kei Trading Co., Ltd. and Jiu Ching Trading Co., Ltd. | 35.78
Meikangchi Nantong Furniture Company Ltd. | 35.78

This correction is published in accordance with sections 751(h) and 777(i) of the Tariff Act of 1930, as amended.

Dated: December 12, 2007.
Stephen J. Claeys,
Deputy Assistant Secretary for Import Administration.

[FR Doc. E7-24847 Filed 12-20-07; 8:45 am]

BILLING CODE 3510-DS-S